DEPARTMENT OF ENERGY

Federal Energy Regulatory Commission

[Docket No. AD12-13-000]

Geomagnetic Disturbances to the Bulk-Power System; Notice of Technical Conference

Take notice that the Federal Energy Regulatory Commission staff will hold a Staff Technical Conference on Geomagnetic Disturbances to the Bulk-Power System on Monday, April 30, 2012, from 11 a.m. to 4 p.m. This staff-led conference will be held in the Commission Meeting Room at the Federal Energy Regulatory Commission, 888 First Street NE., Washington, DC 20426. The conference will be open for the public to attend, and advance registration is not required.

The purpose of the conference is to discuss issues related to reliability of the Bulk-Power System as affected by geomagnetic disturbances. The conference will explore the risks and impacts from geomagnetically induced currents to transformers and other equipment on the Bulk-Power System, as well as, options for addressing or mitigating the risks and impacts.

The agenda for this conference will be issued at a later date. Information on this event will be posted on the Calendar of Events on the Commission's Web site, www.ferc.gov, prior to the event.

Advance registration is not required, but is encouraged. You may register at the following Web page: https://www.ferc.gov/whats-new/registration/geomagnetic-bulk-4-30-12-form.asp.

This conference will be transcribed. Transcripts of the conference will be immediately available for a fee from Ace-Federal Reporters, Inc. (202-347-3700 or 1-800-336-6646). A free webcast of the meeting/conference is also available through www.ferc.gov. Anyone with Internet access who desires to listen to this event can do so by navigating to www.ferc.gov Calendar of Events and locating this event in the Calendar. The event will contain a link to its webcast. The Capitol Connection provides technical support for the webcasts and offers the option of listening to the meeting via phone-bridge for a fee. If you have any questions, visit www.CapitolConnection.org or call 703-993-3100.

Commission conferences are accessible under section 508 of the Rehabilitation Act of 1973. For accessibility accommodations, please send an email to accessibility@ferc.gov or call toll free 1-866-208-3372 (voice) or 202-208-1659 (TTY), or send a Fax to 202-208-2106 with the required accommodations.

For more information about this conference, please contact: Sarah McKinley, Office of External Affairs, Federal Energy Regulatory Commission, 888 First Street NE., Washington, DC 20426, (202) 502-8368, sarah.mckinley@ferc.gov.

Dated: April 6, 2012.
Nathaniel J. Davis, Sr.,
Deputy Secretary.

[FR Doc. 2012-8954 Filed 4-12-12; 8:45 am]

BILLING CODE 6717-01-P